DEPARTMENT OF COMMERCE

International Trade Administration

[A-351-825; A-533-810; A-588-833; A-469-805]

Stainless Steel Bar From Brazil, India, Japan, and Spain; Final Results of Antidumping Duty Expedited Sunset Reviews

AGENCY: Import Administration, International Trade Administration, Department of Commerce.

ACTION: Notice of final results of antidumping duty expedited sunset reviews: Stainless steel bar from Brazil, India, Japan, and Spain.

SUMMARY: On December 30, 1999, the Department of Commerce (“the Department”) published the notice of initiation of sunset reviews of the antidumping duty orders on stainless steel bar (“SSB”) from Brazil, India, Japan, and Spain. On the basis of notices of intent to participate and adequate substantive comments filed on behalf of domestic interested parties and inadequate response (in these cases, no response) from respondent interested parties, we determined to conduct expedited reviews. As a result of these reviews, we find that revocation of the antidumping duty orders would be likely to lead to continuation or recurrence of dumping at the levels listed below in the section entitled “Final Results of Reviews.”

EFFECTIVE DATE: May 4, 2000.

FOR FURTHER INFORMATION CONTACT: Mark D. Young, Import Administration, International Trade Administration, U.S. Department of Commerce, Washington, DC 20230; telephone: (202) 482-6397.

SUPPLEMENTARY INFORMATION:

Statute and Regulations

These reviews are being conducted pursuant to sections 751(c) and 752 of the Tariff Act of 1930, as amended (“the Act”). The Department's procedures for the conduct of sunset reviews are set forth in Procedures for Conducting Five-year (“Sunset”) Reviews of Antidumping and Countervailing Duty Orders, 63 FR 13516 (March 20, 1998) (“Sunset Regulations”) and 19 CFR part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On December 30, 1999, the Department published the notice of initiation of the sunset reviews of the antidumping duty orders on SSB from Brazil, India, Japan, and Spain (64 FR 73510). The Department received Notices of Intent to Participate on behalf of Empire Specialty Steel Inc. (formerly AL Tech Specialty Steel Corp.), Carpenter Technology Corp., Republic Technologies International (formerly Republic Engineered Steels, Inc.), Crucible Specialty Metals Division of Crucible Materials Corp., Electralloy Corp., Slater Steels Corporation, and the United Steelworkers of America, AFL-CIO/CLC (collectively “domestic interested parties”), within the deadline specified in section 351.218(d)(1)(i) of the Sunset Regulations. The domestic interested parties claimed interested party status under section 771(9)(C) and (D) of the Act, as U.S. manufacturers of SSB and a certified union. We received complete substantive responses, in the Brazilian, Indian, Japanese, and Spanish reviews, from the domestic interested parties on January 28, 2000, within the 30-day deadline specified in the Sunset Regulations under section 351.218(d)(3)(i). In their substantive responses, the domestic interested parties stated that they were the petitioners in the original investigations of SSB from Brazil, India, Japan, and Spain. Furthermore, the domestic interested parties stated that they have been involved in these proceedings since their inception.¹ We did not receive a substantive response from any respondent interested party to these proceedings. As a result, pursuant to 751(c)(3)(B) of the Act and 19 CFR 351.218(e)(1)(ii)(C) of the Department's Regulations, the Department determined to conduct expedited, 120-day, reviews of these orders.

¹ Two of the original petitioners have undergone a change of name: AL Tech Specialty Steel Corp. is now Empire Specialty Steel Inc. and Republic Engineered Steel, Inc. is now Republic Technologies International. Talley Metals Technology, Inc. also was a petitioner in these cases; Talley was acquired by Carpenter Technology Corp. and is now a part of Carpenter's operations.

Scope of Review

Imports covered by these reviews are shipments of SSB, specifically articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSB that are turned or ground in straight lengths, whether produced from hot-rolled bar or from straightened and cut rod or wire, and reinforcing bars that have indentations, ribs, grooves, or other deformations produced during the rolling process. Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to these reviews are currently classifiable under subheadings 7222.10.0005, 7222.10.0050, 7222.20.0005, 7222.20.0045, 7222.20.0075, and 7222.30.0000 of the Harmonized Tariff Schedule of the United States (“HTSUS”). Although the HTSUS subheadings are provided for convenience and customs purposes, our written description of the scope of this review is dispositive.

With respect to the order on the subject imports from Japan the Department has made two scope rulings. The following product was determined to be within the scope of the order:

The following product was determined to be outside the scope of the order:

Product within scope | Company | Citation
Keystone 2000 | Keystone Stainless Inc | 63 FR 6722 (February 10, 1998).

Product within scope | Company | Citation
M35FL steel bar | Tohoku Steel Co | 64 FR 50273 (September 16, 1999).

These reviews cover all imports from all manufacturers and exporters of SSB from Brazil, India, Japan, and Spain.

Analysis of Comments Received

All issues raised in these cases by parties to these sunset reviews are addressed in the “Issues and Decision Memorandum” (“Decision Memo”) from Jeffrey A. May, Director, Office of Policy, Import Administration, to Troy H. Cribb, Acting Assistant Secretary for Import Administration, dated April 28, 2000, which is hereby adopted by this notice. The issues discussed in the Decision Memo include the likelihood of continuation or recurrence of dumping and the magnitude of the margin likely to prevail were the orders revoked. Parties can find a complete discussion of all issues raised in these reviews and the corresponding recommendations in this public memorandum, which is on file in room B-099 of the main Commerce Building.

In addition, a complete version of the Decision Memo can be accessed directly on the Web at www.ita.doc.gov/import_admin/records/frn/. The paper copy and electronic version of the Decision Memo are identical in content.

Final Results of Reviews

We determine that revocation of the antidumping duty orders on SSB from Brazil, India, Japan, and Spain would be likely to lead to continuation or recurrence of dumping at the following percentage weighted-average margins:

| Margin (percent)
Brazilian Manufacturers/Exporters:
Acos Villares, S.A | 19.43
All Others | 19.43
Indian Manufacturers/Exporters:
Grand Foundry Limited | 3.87
Mukand, Limited | 21.02
All Others | 12.45
Japanese Manufacturers/Exporters:
Aichi Steel Works, Ltd | 61.47
Daido Steel Co., Ltd | 61.47
Sanyo Special Steel Co., Ltd | 61.47
All Others | 61.47
Spanish Manufacturers/Exporters:
Acensor, S.A. (And all successor companies including Digeco, S.A. and Clorimax, SRL) | 62.85
Roldan, S.A | 7.72
All Others | 25.77

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: April 28, 2000.
Troy H. Cribb,
Acting Assistant Secretary for Import Administration.

[FR Doc. 00-11170 Filed 5-3-00; 8:45 am]

BILLING CODE 3510-DS-P